DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: HRSA AIDS Drug Assistance Program Quarterly Report—New

HRSA's AIDS Drug Assistance Program (ADAP) is funded through Title II of the Ryan White Comprehensive AIDS Resources Emergency (CARE) Act, which provides grants to States and Territories. The ADAP provides medications for the treatment of HIV disease. Program funds may also be used to purchase health insurance for eligible clients for services that enhance access, adherence, and monitoring of drug treatments.

Each of the 50 states, the District of Columbia, and several territories receive ADAP grants. As part of the funding requirements, ADAP grantees submit quarterly reports that include information on patients served, pharmaceuticals prescribed, pricing, and other sources of support to provide AIDS medication treatment, eligibility requirements, cost data, and coordination with Medicaid. Each quarterly report requests updates from programs on number of patients served, type of pharmaceuticals prescribed, and prices paid to provide medication. The first quarterly report of each ADAP fiscal year (due in July of each year) also requests information that only changes annually (e.g., State funding, drug formulary, eligibility criteria for enrollment, and cost-saving strategies including coordinating with Medicaid).

The quarterly report represents the best method for HRSA to determine how ADAP grants are being expended and how to provide answers to requests from Congress and other organizations. This new quarterly report will replace two current monthly progress reports plus information currently submitted annually. The new quarterly report should reduce burden, avoid duplication of information, and provide HRSA information in a form that easily lends itself to responding to inquiries.

The estimated annual burden per ADAP grantee is as follows:

Type of respondent | Number of respondents | Responses per respondent | Total responses | Hours per response | Total burden hours
First quarterly report | 57 | 1 | 57 | 3 | 171
Second, third, & fourth quarterly reports | 57 | 3 | 171 | 1.5 | 256.5
Total | 57 |  | 228 |  | 427.5

Written comments and recommendations concerning the proposed information collection should be sent within 30 days of this notice to: John Kraemer, Health Resources and Services Administration, Human Resources and Housing Branch, Office of Management and Budget, New Executive Office Building, Room 10235, Washington, DC 20503.

Dated: September 23, 2004.
Tina M. Cheatham,
Director, Division of Policy Review and Coordination.

[FR Doc. 04-21921 Filed 9-29-04; 8:45 am]

BILLING CODE 4165-15-P